ENVIRONMENTAL PROTECTION AGENCY

[8982-01-OA]

Notice of Meeting of the EPA Children's Health Protection Advisory Committee (CHPAC)

AGENCY: Environmental Protect ion Agency (EPA).

ACTION: Notice of meeting.

SUMMARY: Pursuant to the provisions of the Federal Advisory Committee Act, notice is hereby given that the next meeting of the Children's Health Protection Advisory Committee (CHPAC) will be held virtually November 2 and 3, 2021. The CHPAC advises the Environmental Protection Agency (EPA) on science, regulations and other issues relating to children's environmental health.

DATES: November 2, 2021 from 12:30 p.m. to 6 p.m. and November 3, 2021 from 12:30 p.m. to 6 p.m.

ADDRESSES: The meeting will take place virtually. If you want to listen to the meeting or provide comments, please email louie.nica@epa.gov for further details.

FOR FURTHER INFORMATION CONTACT: Nica Louie, Office of Children's Health Protection, U.S. EPA, MC 1107T, 1200 Pennsylvania Avenue NW, Washington, DC 20460, (202) 564-7633 or louie.nica@epa.gov.

SUPPLEMENTARY INFORMATION: The meetings of the CHPAC are open to the public. An agenda will be posted to https://www.epa.gov/children/childrens-health-protection-advisory-committee-chpac.

Access and Accommodations: For information on access or services for individuals with disabilities, please contact Nica Louie at 202-564-7633 or louie.nica@epa.gov.

Dated: September 9, 2021.
Nica Mostaghim,
Environmental Health Scientist.

[FR Doc. 2021-19833 Filed 9-14-21; 8:45 am]

BILLING CODE 6560-50-P